FEDERAL COMMUNICATIONS COMMISSION

47 CFR Parts 73 and 76

[MM Docket No. 98-204; DA 02-1025]

En Banc Hearing on Broadcast and Cable EEO Rules and Policies

AGENCY: Federal Communications Commission.

ACTION: Proposed rule.

SUMMARY: On May 3, 2002, the Commission released a public notice announcing the June 24, 2002, en banc hearing to discuss issues and views on the Commission's proceeding to promulgate new broadcast and cable equal employment opportunity (EEO) rules. The intended effect of this action is to make the public aware of the Commission's en banc hearing.

DATES: The en banc hearing will convene from 10 a.m. to 1 p.m. on June 24, 2002.

ADDRESSES: The hearing will be held at the Federal Communications Commission, 445 12th Street, SW., Washington, DC, in the Commission Meeting Room (Room TW-C305).

FOR FURTHER INFORMATION CONTACT: Lewis Pulley, Media Bureau, Policy Division. (202) 418-1450.

SUPPLEMENTARY INFORMATION: 1. By Public Notice dated and released May 3, 2002, the Federal Communications Commission announced that it will hold an en banc hearing. The purpose of the en banc is to assist the Commission in its examination of the EEO rules applicable to broadcast and cable entities. In January 2001, the District of Columbia Circuit Court of Appeals vacated the rules as unconstitutional, finding them insufficiently tailored to address the Commission's efforts to prohibit race and gender discrimination in broadcast and cable employment. Following the court's decision, the Commission suspended enforcement of its EEO program outreach and dissemination rules.

2. The en banc will feature industry professionals representing both small and large broadcasters and cable entities, academicians, as well as representatives from trade associations and the public interest sector.

3. The en banc is open to the public and seating will be available on a first come, first served basis. Internet users may listen to the real-time audio feed of the hearing via the Internet in Real Audio/Real Video format http://www.fcc.gov/realaudio/.

Federal Communications Commission.
W. Kenneth Ferree,
Chief, Media Bureau.

[FR Doc. 02-15894 Filed 6-19-02; 4:18 pm]

BILLING CODE 6712-01-P